DEPARTMENT OF THE INTERIOR

Bureau of Land Management

[14X LLIDB00100 LF1000000.HT0000 LXSS024D0000 241A 4500060956]

Notice of Public Meeting, Gateway West Project Subcommittee of the Boise District Resource Advisory Council

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Gateway West Project Subcommittee of the Boise District Resource Advisory Council (RAC), will hold a work session as indicated below.

DATES: The work session will be held on January 14, 2014, at the Boise District Office located at 3948 Development Avenue, Boise, ID 83705, beginning at 12:30 p.m. and adjourning at 5:00 p.m. Members of the public are invited to attend. A public comment period will be held.

FOR FURTHER INFORMATION CONTACT: Marsha Buchanan, Supervisory Administrative Specialist and RAC Coordinator, BLM Boise District, 3948 Development Ave., Boise, ID 83705, Telephone (208) 384-3364.

SUPPLEMENTARY INFORMATION: The Gateway West Project Subcommittee advises the Boise District Resource Advisory Council on matters of planning and management of the Gateway West Project (sections 8 and 9). The Boise District Resource Advisory Council advises the Secretary of the Interior, through the BLM, on a variety of planning and management issues associated with public land management in southwestern Idaho. The subcommittee will be discussing proposed routes of the Gateway West transmission line sections 8 and 9. Agenda items and location may change due to changing circumstances. The public may present written or oral comments to members of the Subcommittee. Individuals who plan to attend and need special assistance should contact the BLM Coordinator as provided above. Persons who use a telecommunications device for the deaf (TDD) may call the Federal Information Relay Service (FIRS) at 1-800-877-8339 to contact the above individual during normal business hours. The FIRS is available 24 hours a day, 7 days a week, to leave a message or question with the above individual. You will receive a reply during normal business hours.

Terry A. Humphrey,
Acting District Manager.

[FR Doc. 2013-31297 Filed 12-30-13; 8:45 am]

BILLING CODE 4310-GG-P